DEPARTMENT OF COMMERCE

National Oceanic and Atmospheric Administration

Deep Seabed Mining: Approval of Extension and Revision of Exploration License

AGENCY: National Oceanic and Atmospheric Administration, U.S. Department of Commerce.

ACTION: Notice of approval of extension of Deep Seabed Mining Exploration License USA-1 and revision of exploration plan.

SUMMARY: On December 5, 2001, at 66 FR 234, the National Oceanic and Atmospheric Administration (NOAA) noticed receipt of an application for a five-year extension of Deep Seabed Mining-Exploration License USA-1 and revision of exploration plan from Ocean Minerals Company (OMCO). No comments objecting to approval of the extension and revision were received. Pursuant to the Deep Seabed Hard Mineral Resources Act (Pub. L. 96-283) and 15 CFR part 970, on July 26, 2002, NOAA approved the extension of the license and revision to the exploration plan through the year 2004.

FOR FURTHER INFORMATION CONTACT: John King, Coastal Programs Division (NORM/3), Office of Ocean and Coastal Resource Management, NOS, NOAA, 1305 East-West Highway, Silver Spring, Maryland, 20910, tel. (301) 713-3155, extension 188, e-mail john.king@noaa.gov.

Federal Domestic Assistance Catalog 11.419 Coastal Zone Management Program Administration.
Dated: July 26, 2002.
Jamison S. Hawkins,
Deputy Assistant Administrator for Ocean Services and Coastal Zone Management, National Oceanic and Atmospheric Administration.

[FR Doc. 02-19686 Filed 8-2-02; 8:45 am]

BILLING CODE 3510-08-M